DEPARTMENT OF DEFENSE

Department of the Army

[Docket ID: USA-2016-HQ-0010]

Privacy Act of 1974; System of Records

AGENCY: Department of the Army, DoD.

ACTION: Notice to alter a System of Records.

SUMMARY: The Department of the Army proposes to alter a system of records, A0600-43 DAPE, entitled “DA Conscientious Objector Review Board”. This system is used to investigate claims of a service member that he/she is a conscientious objector to participation in war or to the bearing of arms and to make final determination resulting in assignment of appropriate status or awarding of discharge.

DATES: Comments will be accepted on or before April 25, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for systems of records subject to the Privacy Act of 1974 (5 U.S.C. 552a), as amended, have been published in the Federal Register and are available from the address in the FOR FURTHER INFORMATION CONTACT or from the Defense Privacy and Civil Liberties Division Web site at http://dpcld.defense.gov/. The proposed systems reports, as required by 5 U.S.C. 552a(r) of the Privacy Act, as amended, were submitted on March 18, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 18, 2016.
Aaron Siegel,
Alternate OSD Federal Register Liaison Officer, Department of Defense.

A0600-43 DAPE

System name:

DA Conscientious Objector Review Board (February 14, 2000, 65 FR 7365)

Changes:

* * * * *

System location:

Delete entry and replace with “Army Review Boards Agency, 251 18th Street South, Suite 385, Arlington, VA 22202-3531.”

* * * * *

Categories of records in the system:

Delete entry and replace with “Name, grade/rank, Social Security Number (SSN), duty status, results of interview evaluation by military chaplain and a psychiatrist, command's report of investigation, evidence submitted by applicant, witness statements, hearing transcript or summary, information or records from the Selective Service System if appropriate, applicant's rebuttal to commander's recommendation, DA Conscientious Objector Review Board (DACORB) correspondence with applicant, summary of evidence considered, discussion, conclusions, names of voting DACORB members, and disposition of application.”

Authority for maintenance of the system:

Delete entry and replace with “10 U.S.C. 3013, Secretary of the Army; DoDI 1300.06, Conscientious Objectors; Army Regulation 600-43, Conscientious Objection; and E.O. 9397 (SSN), as amended.”

* * * * *

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To the Selective Service System Headquarters for the purpose of identifying individuals who have less than 180 days active duty, and who have been discharged by reason of conscientious objection.

The DoD Blanket Routine Uses set forth at the beginning of the Army's compilation of systems of records notices may apply to this system. The complete list of DoD Blanket Routine Uses can be found online at: http://dpcld.defense.gov/Privacy/SORNsIndex/BlanketRoutineUses.aspx.

The DOD Health Information Privacy Regulation (DOD 6025.18-R) issued pursuant to the Health Insurance Portability and Accountability Act of 1996, applies to most such health information. DOD 6025.18-R may place additional procedural requirements on the uses and disclosures of such information beyond those in the Privacy Act of 1974 or mentioned in this system of records notice.”

Policies and practices for storing, retrieving, accessing, retaining, and disposing of records in the system:

Storage:

Delete entry and replace with “Paper records and electronic storage media.”

Retrievability:

Delete entry and replace with “By applicant's name and SSN.”

Safeguards:

Delete entry and replace with “Records are maintained in a controlled facility. Physical entry is restricted by the use of locks, guards, and is accessible only to authorized personnel. Access to records is limited to person(s) with an official need-to-know who are responsible for servicing the record in the performance of their official duties. Access to computerized data is restricted by use of Common Access Cards (CACs) and is accessible only by users with an authorized account. Persons are properly screened and cleared for access. Access to computerized data is role-based and further restricted by passwords, which are changed periodically. In addition, the integrity of automated data is ensured by internal audit procedures, database access accounting reports, and controls to preclude unauthorized disclosure.”

* * * * *

Notification procedure:

Delete entry and replace with “Individuals seeking to determine whether information about themselves is contained in this system of records may write to the Deputy Chief of Staff for Personnel, Headquarters, Department of the Army, ATTN: DAPE-ZXI-IC (PA Officer), 300 Army Pentagon, Washington, DC 20310-0300.

Individuals should provide their full name, SSN, current address, year of Conscientious Objector Review Board decision, and the request must be signed.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records may write to the Deputy Chief of Staff for Personnel, Headquarters, Department of the Army, ATTN: DAPE-ZXI-IC (PA Officer), 300 Army Pentagon, Washington, DC 20310-0300.

Individual should provide their full name, SSN, current address, and the request must be signed.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Army's rules for accessing records, and for contesting contents and appealing initial agency determinations are contained in 32 CFR part 505, Army Privacy Program or may be obtained from the system manager.”

Record source categories:

Delete entry and replace with “From the individual, his/her commander, and/or official records.”

* * * * *

[FR Doc. 2016-06640 Filed 3-23-16; 8:45 am]

BILLING CODE 5001-06-P